DEPARTMENT OF HEALTH AND HUMAN SERVICES

National Institutes of Health

Center for Scientific Review; Amended Notice of Meeting

Notice is hereby given of a change in the meeting of the Center for Scientific Review Special Emphasis Panel, December 7, 2009, 1 p.m. to December 7, 2009, 5 p.m., National Institutes of Health, 6701 Rockledge Drive, Bethesda, MD 20892 which was published in the Federal Register on November 10, 2009, 74 FR 58027.

The meeting will be held December 16, 2009, from 10:30 a.m. to 12:30 p.m. The meeting location remains the same. The meeting is closed to the public.

Dated: November 23, 2009.
Jennifer Spaeth,
Director, Office of Federal Advisory Committee Policy.

[FR Doc. E9-28736 Filed 11-30-09; 8:45 am]

BILLING CODE 4140-01-P